DEPARTMENT OF DEFENSE

Department of the Army; U.S. Army Corps of Engineers

Intent To Prepare a Joint Environmental Impact Statement and Environmental Impact Report for North Delta Improvements Project

AGENCY: Department of the Army, U.S. Army Corps of Engineers, DoD.

ACTION: Notice of intent.

SUMMARY: The U.S. Army Corps of Engineers (Corps) and California Department of Water Resources (DWR) are proposing the North Delta Improvements Project (NDIP). The project would implement flood control improvements in the northern Sacramento-San Joaquin Delta, principally on and around Staten Island, Dead Horse Island, and McCormack Williamson Tract, in a manner that would benefit aquatic and terrestrial habitats and alleviate flood-related problems in the North Delta area.

Pursuant to the National Environmental Policy Act (NEPA) and the California Environmental Quality Act (CEQA), the Corps and DWR, respectively, are initiating the NDIP Feasibility Study for a portion of the Sacramento-San Joaquin Delta, and plan to prepare an Environmental Impact Statement/Environmental Impact Report (EIS/EIR) for the proposed NDIP. Development of the Feasibility Report will be closely coordinated with development of the draft EIS/EIR, which will document existing conditions, project actions, and project effects. Responsible and trustee agencies under CEQA may include: California Department of Fish and Game; The Reclamation Board of the State of California; State Lands Commission; California Regional Water Quality Control Boards; State Water Resources Control Board; California Department of Transportation; California Department of Conservation; and California Department of Boating and Waterways.

DATES: Scoping meetings will be held on February 19, 2003, 6-8 PM, Jean Harvie Community Center, Walnut Grove, CA, and February 20, 2003, 1:30-4 PM, Bonderson Building, Sacramento, CA. If special assistance is required, please contact Gwen Knittweis (see information below) as far in advance of the workshops as possible to enable DWR to secure the needed services. If a request cannot be honored, the requestor will be notified.

FOR FURTHER INFORMATION CONTACT: Questions about the proposed action and EIS/EIR should be addressed to: Ms. Becky Wren, Environmental Manager, U.S. Army Corps of Engineers, CESPK-PD-R, 1325 J Street, Sacramento, CA 95814-2922, telephone: (916) 557-5162, e-mail address: rebecca.wren@usace.army.mil, or Ms. Gwen Knittweis, North Delta Project Manager/Engineer, California Department of Water Resources, PO Box 942836, Sacramento, CA 94236-0001, telephone: (916) 653-2118, e-mail address: gwenk@water.ca.gov. Also, http://ndelta.water.ca.gov contains further project information.

SUPPLEMENTARY INFORMATION:

1. Background

A resolution adopted by the Senate Committee on Public Works on June 1, 1948, requests a review of reports submitted on the Sacramento River, California, to determine if it is advisable to modify existing projects in any way, particularly to (1) provide for the closing of Georgiana Slough and (2) eliminate tidal flow into lower Sherman Island, Frank's Tract, the area south of Dutch Slough, and similar areas subject to tidal inundation, so that the tidal prism of the Sacramento-San Joaquin Delta (Delta) may be reduced to a minimum.

A resolution adopted by both the Senate and House Committee on Public Works on January 31, 1961, and June 7, 1961, respectively, requests a review of Delta reports to determine the advisability of measures to preserve scenic values and to preserve and enhance recreational and related opportunities in project areas in the Delta region, consistent with the primary flood protection purposes of existing and proposed levees and channel improvements. Study authority is also contained in Section 205 of the Flood Control Act of 1950, which authorized the Secretary of the Army to make preliminary examinations and surveys for flood protection and allied purposes in the Delta.

2. Proposed Action

The Corps and DWR are conducting a study on flood control system improvements that would benefit aquatic and terrestrial habitats and alleviate flood-related problems in the North Delta. This study will result in a feasibility report.

3. Project Background

The Sacramento-San Joaquin estuary provides water for a wide range of beneficial uses, including drinking water for millions of Californians, irrigation water for millions of acres of agricultural land, an spawning and rearing habitat for aquatic organisms. The estuary also provides a permanent or seasonal home for a large variety of native plants and wildlife. Over the past several decades increase in the demand for the estuary's resources have increased conflict between the needs of water users and efforts to sustain the estuary's aquatic ecosystem and support recovery of listed fish.

The North Delta area of the estuary faces the need to balance the same issues as the larger estuary, particularly with regard to flood control and ecosystem restoration. The Sacramento-San Joaquin Delta is the focus of complex issues involving water supply, water quality, flood control requirements, and the environment. Of particular concern to this project, runoff from the Sacramento, San Joaquin, Mokelumne, and Cosumnes rivers, as well as from the South Sacramento Stream Group (Morrison Creek, Florin Creek, Union House Creek, Elder Creek, and North Beach-Stone Lakes area) during large storm events has caused flooding in the North Delta. Additionally, the degradation and loss of aquatic and terrestrial habitat are a primary concern in the North Delta.

The joint state-federal CALFED Bay-Delta Program (CALFED) was formed to develop and implement a long-term comprehensive plan to restore ecological health and improve water management for beneficial uses of the Bay-Delta system. The CALFED Programmatic EIS/EIR (PEIS/EIR) and Programmatic Record of Decision (ROD) were issued in July and August 2000, respectively. The CALFED ROD identifies, as a component of conveyance actions, the NDIP, which is to design and construct floodway improvements in the North Delta (such as on the lower Mokelumne River and Georgiana Slough) to provide conveyance, flood control, and ecosystem benefits.

The CALFED ROD also identifies other improvements to the North Delta, including changes to the Delta Cross Channel (DCC) and an evaluation of a through-Delta facility on the Sacramento River. The NDIP will not be addressing these improvements.

4. Need for the Project

Flood control improvements are needed to reduce flood damage to land uses, infrastructure, and the Bay-Delta ecosystem resulting from overflows caused by insufficient channel capacities and catastrophic levee failures within the NDIP study area, including the Point Pleasant area. The existing and historical conditions that warrant flood control and ecosystem quality improvements are described below.

Flood Control—The Mokelumne and Cosumnes rivers and the Morrison Creek Stream group do not have sufficient channel capacity to safely convey 100-year peak flows from Sierra Nevada watersheds through the North Delta to the San Joaquin River. Channel capacities for the north and south forks of the Mokelumne River are approximately 40,000 cubic feet per second (cfs). The combined channel capacity required to safely convey flows from a 100-year flood event would be 90,000 cfs. The lack of channel capacity, combined with constrictions in vulnerable areas (e.g., bridge abutments) and an increase in sedimentation levels over time (which reduces channel capacity), makes a number of areas in the North Delta vulnerable to flooding. Since 1955, several areas have been flooded after levees were either breeched or overtopped, including the Point Pleasant area, McCormack-Williamson Tract, Dead Horse Island, New Hope Tract, Brack and Canal Ranch Tracts, and the Franklin Pond area. The potential for flooding also threatens important public facilities and institutions in the North Delta area, including Interstate 5, the Union Pacific Railroad line, and the Rio Cosumnes Correctional Center.

The North Delta is also susceptible to levee failure during peak flows. Levees on McCormack-Williamson Tract and Dead Horse Island frequently have been overtopped or have failed during large storm events, and many other levees have been subject to structural failure during past storm events. Failure of Bay-Delta levees could:

(1) Result in flooding of Delta communities, farmland, habitat, key roads and highways;

(2) Expose adjacent islands to increased wave action, increased seepage, and risk of levee erosion;

(3) Affect water supply distribution systems; or

(4) Affect flow patterns, potentially resulting in adverse impacts on water quality if the levee breach is not repaired.

Ecosystem Quality—Degradation and the loss of habitats that support various life stages of aquatic and terrestrial biota are a primary concern in the North Delta. These habitat changes have many causes, including sedimentation from hydraulic mining, habitat conversion, dredging and water diversions. Thirty years of hydraulic mining (in the 19th century) in the river drainages along the eastern edge of the Central Valley have increased sedimentation levels in downstream watercourses, degrading valuable aquatic habitat. In addition, many of the seasonally-inundated lands in the Bay-Delta system that historically provided habitat to a variety of bird and animal species have been converted to agricultural, industrial, and urban uses. Levees constructed to protect lands in the Delta from inundation eliminated fish access to shallow overflow areas. Dredging to construct levees eliminated the tule bed habitat along the river channels. Upstream water development and use, depletion of natural flows by local diverters, and the export of water from the Bay-Delta system have altered hydrodynamic processes. This alteration has resulted in changed seasonal patterns of inflow, reduced Delta outflow, and diminished natural variability of flows into and through the Bay-Delta system. Facilities constructed to support water diversions may contribute to straying or direct losses of fish and can increase exposure of juvenile fish to predation.

5. Purpose of the Project

The purpose of the NDIP is to implement flood control improvements in a manner that benefits aquatic and terrestrial habitats.

To be consistent with the overall goals of CALFED, the NDIP would also be compatible with and supportive of the other programmatic elements outlined in the PEIS/EIR. Therefore, to the extent that meeting other goals is consistent with the primary purpose of the NDIP, the Corps and DWR will incorporate project elements that support the following CALFED objectives:

(a) Improve conveyance to improve water supply reliability at the South Delta export pumps.

(b) Improve conveyance to facilitate reductions in salinity levels in the San Joaquin River and improve the quality of the water at the South Delta export pumps.

(c) Recommend ecosystem restoration and science actions in the project area consistent with the CALFED Ecosystem Restoration Program's strategic goals and objectives.

(d) Improve levee stability and integrity in the NDIP project area.

(e) Minimize the conversion of prime, statewide-important, and unique farmlands to NDIP uses.

(f) Minimize impacts to recreational use in the NDIP project area.

6. Project Area

The NDIP project area is approximately 197 square miles. The project area defines the area within which DWR is considering alternatives for flood control and restoration actions. Direct (on-the-ground) impacts of constructing the alternatives will be evaluated within the project area. However, this area does not represent the limits of the area considered during impact analysis.

7. Alternatives

The NDIP is currently in the preliminary design phase, meaning that alternatives for project actions have not yet been fully defined. However, the team has a list of project design concepts that will be run through a hydraulic model to test their feasibility. The draft concepts include:

(a) Whole/Partial Island Flood Detention Areas—Whole and partial island flood detention areas have been proposed for Staten Island, Dead Horse Island, and McCormack-Williamson Tract. This concept would entail strengthening the landward sides of an island's levees and installing weirs and pumps to allow flood control operators to divert water on and off the island from swollen rivers during peak flood flows.

(b) Parallel Levee Bypasses—The parallel levee concept would create a controlled flood bypass by constructing a second levee inland from an existing levee and installing weirs at either end of the new bypass area, allowing flood control operators to divert water into the bypass to alleviate peak flood flows. This concept could include the placement of pumps at the downstream end of the bypass in order to return floodflows to the main channel.

(c) Steback Levees—Under this concept, a second levee, or setback levee, would be built inland from the existing levee, and the existing levee would be removed or breached in order to permanently widen the existing floodplain and create more capacity in the river corridor.

(d) Bridge Replacement—Historically, many bridges in the Delta have constricted channels as a result of their large concrete abutments and pilings. In addition, floating debris often gets entangled on the low bridges during flood events and continues to collect, forming a dam, which restricts flow and can cause upstream flooding. Bridge replacement in the North Delta area would include redesigning bridges with smaller abutments and pilings. Such bridge redesign would place less concrete in the channel, increasing channel capacity. Redesigned bridges would span rivers at a higher elevation, facilitating debris passage, and avoiding or minimizing debris buildup during flood events.

(e) Maintenance Dredging—Maintenance dredging has been proposed on the north and south forks of the Mokelumne River to increase channel capacity.

8. Scoping Process

(a) The Corps and DWR invites comments from State and Federal agencies with respect to the scope and content of the environmental information in the proposed EIS/EIR that are within each agency's statutory responsibilities in connection with the proposed NDIP. In addition, written comments from interested parties regarding the scope and content of the environmental documents are invited to ensure that the full range of alternatives and issues related to the proposed project are identified. All comments received, including names and addresses, will become part of the official administrative record and may be made available to the public. Comments should be submitted to the previously mentioned Corps or DWR contact at the earliest possible date, but no later than February 28, 2003.

(b) The draft EIS/EIR will contain an analysis of the physical and biological impacts to the environment rising from the proposed project and alternatives to the project. In addition, it will address the cumulative impacts of implementation of alternatives in conjunction with other past, present, and reasonably foreseeable future actions.

Potential environmental effects could include, but are not limited to, the following: permanent and temporary effects on bodies of water and wetlands associated with the construction of flood control structures and flood control and ecosystem improvements; effects are rare and sensitive biological plant and animal species from construction of flood control structures and flood control and ecosystem improvements; short term effects on water quality associated with excavation and dredging in bodies of water; short term effects on air quality during construction from the operation of heavy equipment; and effects on cultural resources during earth moving operations associated with the construction of flood control structures and flood control and ecosystem improvements.

(c) DWR will consult with the State Historic Preservation Officer to comply with the National Historic Preservation Act, and the Corps will consult with the U.S. Fish and Wildlife Service to provide a Fish and Wildlife Coordination Act Report as an appendix to the EIS/EIR.

(d) A 30-day public review period will be provided for individuals and agencies to review and comment on the draft EIS/EIR. All interested parties are encouraged to respond to this notice and provide a current address if they wish to be notified of the EIS/EIR circulation.

(e) Scoping is an early and open process designed to determine the issues and alternatives to be addressed in a draft EIS/EIR. Two public scoping meetings are scheduled (see DATES).

9. Availability

The draft EIS/EIR is scheduled to be available for review and comment in the summer of 2004.

Dated: January 24, 2003.
Mark W. Connelly,
LTC, EN, Acting Commander.

[FR Doc. 03-2318 Filed 1-30-03; 8:45 am]

BILLING CODE 3710-EZ-M